NUCLEAR REGULATORY COMMISSION

10 CFR Part 171

[NRC-2012-0092]

RIN 3150-AJ16

Technical Corrections; Correction

AGENCY: Nuclear Regulatory Commission.

ACTION: Final rule; correcting amendment.

SUMMARY: The U.S. Nuclear Regulatory Commission (NRC) is correcting a final rule that was published in the Federal Register on July 6, 2012 (77 FR 39899), and effective on August 6, 2012. That final rule amended the NRC regulations to make technical corrections, including updating the street address for the Region I office, correcting authority citations and typographical and spelling errors, and making other edits and conforming changes. This correcting amendment is necessary to correct the statutory authority that is cited in one of the authority citations in the final rule.

DATES: The correction is effective on December 5, 2012.

FOR FURTHER INFORMATION CONTACT: Cindy Bladey, Chief, Rules, Announcements, and Directives Branch, Office of Administration, U.S. Nuclear Regulatory Commission, Washington, DC 20555-0001; telephone: 301-492-3667 or email: Cindy.Bladey@nrc.gov.

SUPPLEMENTARY INFORMATION: On July 6, 2012 (77 FR 39899), the NRC published a final rule in the Federal Register amending its regulations to make technical corrections. This document is necessary to correct the statutory authority that is cited in the authority citation for part 171 of Title 10 of the Code of Federal Regulations (10 CFR). The authority citation for 10 CFR part 171 referred to section 6101 of the Consolidated Omnibus Budget Reconciliation Act. The authority citation should refer to section 7601 of the Act.

Rulemaking Procedure

Because this amendment constitutes a minor technical correction to the NRC's regulations and the authority citation for the prior technical corrections rulemaking, the Commission finds that the notice and comment provisions of the Administrative Procedure Act are unnecessary and is exercising its authority under 5 U.S.C. 553(b)(3)(B) to publish these amendments as a final rule. These amendments do not require action by any person or entity regulated by the NRC. Also, the final rule does not change the substantive responsibilities of any person or entity regulated by the NRC.

List of Subjects in 10 CFR Part 171

Annual charges, Byproduct material, Holders of certificates, Registrations, Approvals, Intergovernmental relations, Non-payment penalties, Nuclear materials, Nuclear power plants and reactors, Source material, Special nuclear material.

For the reasons set out in the preamble and under the authority of the Atomic Energy Act of 1954, as amended; the Energy Reorganization Act of 1974, as amended; and 5 U.S.C. 552 and 553, 10 CFR part 171 is corrected by making the following correcting amendment.

PART 171—ANNUAL FEES FOR REACTOR LICENSES AND FUEL CYCLE LICENSES AND MATERIAL LICENSES, INCLUDING HOLDERS OF CERTIFICATES OF COMPLIANCE, REGISTRATIONS, AND QUALITY ASSURANCE PROGRAM APPROVALS AND GOVERNMENT AGENCIES LICENSED BY THE NRC

1. Revise the authority citation for part 171 to read as follows:

Authority: Consolidated Omnibus Budget Reconciliation Act sec. 7601 Pub. L. 99-272, as amended by sec. 5601, Pub. L. 100-203 as amended by sec. 3201, Pub. L. 101-239, as amended by sec. 6101, Pub. L. 101-508, as amended by sec. 2903a, Pub. L. 102-486 (42 U.S.C. 2213, 2214), and as amended by Title IV, Pub. L. 109-103 (42 U.S.C. 2214); Atomic Energy Act sec. 161(w), 223, 234 (42 U.S.C. 2201(w), 2273, 2282); Energy Reorganization Act sec. 201 (42 U.S.C. 5841); Government Paperwork Elimination Act sec. 1704 (44 U.S.C. 3504 note); Energy Policy Act of 2005 sec. 651(e), Pub. L. 109-58 (42 U.S.C. 2014, 2021, 2021b, 2111).

For the Nuclear Regulatory Commission.
Dated at Rockville, Maryland, this 29th day of November, 2012.
Cindy Bladey,
Chief, Rules, Announcements, and Directives Branch, Division of Administrative Services, Office of Administration.

[FR Doc. 2012-29348 Filed 12-4-12; 8:45 am]

BILLING CODE 7590-01-P